DEPARTMENT OF TRANSPORTATION

Office of the Secretary

[Docket No. DOT-OST-2018-0204]

Air Carrier Access Act Advisory Committee Meeting

AGENCY: Office of the Secretary (OST), Department of Transportation (Department or DOT).

ACTION: Notice of public meeting.

SUMMARY: This notice announces a meeting of the Air Carrier Access Act Advisory Committee (“ACAA Advisory Committee”).

DATES: The meeting will be held on March 10 and 11, 2020, from 9:00 a.m. to 5:00 p.m., Eastern Time, at the Washington Plaza Hotel, 10 Thomas Circle NW, Washington, DC 20005. Requests to attend the meeting must be received by March 4, 2020. Requests for accommodations must be received by March 6, 2020.

FOR FURTHER INFORMATION CONTACT: For registration or accommodation requests, please contact Kimberly Wilson or Katie Campanale at Accel Solutions by email at ACAA@accelsolutionsllc.com or by telephone at 703-801-5421. For other inquiries, please contact Vinh Nguyen or Livaughn Chapman, Jr., Office of the Aviation Enforcement and Proceedings, U.S. Department of Transportation, by email at vinh.nguyen@dot.gov or livaughn.chapman@dot.gov or by telephone at 202-366-9342.

ADDRESSES: The meeting will be held in the National Ballroom at the Washington Plaza Hotel, 10 Thomas Circle NW, Washington, DC 20005. Copies of the meeting minutes will be available at www.regulations.gov. After entering the docket number (DOT-OST-2018-0204), click the link to “Open Docket Folder,” and choose the document to review. Written materials may be submitted to this docket. If you do not have access to the internet, you may view the docket by visiting the Docket Management Facility in Room W12-140 on the ground floor of the DOT West Building, 1200 New Jersey Avenue SE, Washington, DC 20590, between 9:00 a.m. and 5:00 p.m., Eastern Time, Monday through Friday, except Federal holidays.

SUPPLEMENTARY INFORMATION:

I. Background

The ACAA Advisory Committee was created under the Federal Advisory Committee Act (FACA), in accordance with Section 439 of the FAA Reauthorization Act of 2018 (FAA Act), to identify and assess barriers to accessible air travel, determine the extent to which DOT's programs and activities are addressing the barriers, recommend improvements, and advise the Secretary on implementing the Air Carrier Access Act. The charter of the ACAA Advisory Committee sets forth policies for the operation of the advisory committee. The charter is available at www.transportation.gov/individuals/aviation-consumer-protection/charter-air-carrier-access-act-advisory-committee.

II. Agenda

The first meeting of the ACAA Advisory Committee is designed to gather information on the barriers encountered by the passengers with disabilities in the following areas: Ticketing; pre-flight seat assignments; access to bulkhead seating; stowage of assistive devices; and guide and wheelchair assistance at airports and on aircraft. There will also be a discussion of airlines' disability training programs for employees and contractors who interact with the traveling public. An overview of the Department's programs and activities related to the air travel of passengers with disabilities will also be provided at the meeting. In addition, the Department will consult with the ACAA Advisory Committee to develop the “Airline Passenger with Disabilities Bill of Rights.”

III. Public Participation

The meeting will be open to the public on a first come, first served basis. As space is limited, members of the public who plan to attend this meeting must RSVP to the person listed in the FOR FURTHER INFORMATION CONTACT section above no later than Tuesday, March 4, 2020, with your name and affiliation. The Department is committed to providing equal access to this meeting for all participants. Sign language interpreters and Communication Access Realtime Translation (CART) services will be available for the meeting. If you need alternative formats or other disability-related accommodations, please inform the person listed in the FOR FURTHER INFORMATION CONTACT section above no later than March 6, 2020.

Oral comments from members of the public joining the meeting will be allowed if time permits. The time for each commenter may be limited. Individuals wishing to reserve speaking time during the meeting must submit a request at the time of registration, as well as the name, address, and organizational affiliation of the proposed speaker. Speakers are requested to submit a written copy of their prepared remarks for inclusion in the meeting records and for circulation to ACAA Advisory Committee members. Any member of the public may submit a written statement to the committee through the docket at any time.

Issued this 14th day of February 2020, in Washington, DC.
Blane A. Workie,
Assistant General Counsel for Aviation Enforcement and Proceedings, U.S. Department of Transportation.

[FR Doc. 2020-03468 Filed 2-20-20; 8:45 am]

BILLING CODE 4910-9X-P